DEPARTMENT OF ENERGY

Federal Energy Regulatory Commission

Combined Notice of Filings #1

Take notice that the Commission received the following electric corporate filings:

Docket Numbers: EC15-210-000.

Applicants: Dominion Solar Projects A, Inc., Dominion Solar Projects I, Inc.

Description: Second Clarification to September 24, 2015 Application for Authorization Under Section 203 of the Federal Power Act of Dominion Solar Projects A, Inc., et al.

Filed Date: 12/4/15.

Accession Number: 20151204-5299.

Comments Due: 5 p.m. ET 12/14/15.

Docket Numbers: EC16-21-000.

Applicants: Sandstone Solar LLC.

Description: Clarification to October 29, 2015 Application for Authorization Under Section 203 of the Federal Power Act, Request for Expedited Consideration and Confidential Treatment of Sandstone Solar LLC.

Filed Date: 12/3/15.

Accession Number: 20151203-5147.

Comments Due: 5 p.m. ET 12/14/15.

Docket Numbers: EC16-46-000.

Applicants: Bicent (California) Malburg LLC.

Description: Application for Authorization for Disposition of Jurisdictional Facilities and Request for Expedited Action of Bicent (California) Malburg LLC.

Filed Date: 12/4/15.

Accession Number: 20151204-5293.

Comments Due: 5 p.m. ET 12/28/15.

Take notice that the Commission received the following electric rate filings:

Docket Numbers: ER16-468-000.

Applicants: FTS Master Tenant 1, LLC.

Description: Baseline eTariff Filing: FTS Master Tenant 1 LLC MBR Tariff to be effective 2/1/2016.

Filed Date: 12/4/15.

Accession Number: 20151204-5249.

Comments Due: 5 p.m. ET 12/28/15.

Docket Numbers: ER16-469-000.

Applicants: Midcontinent Independent System Operator, Inc.

Description: § 205(d) Rate Filing: 2015-12-04_Order 1000 CTDS Variance Analysis Filing to be effective 2/2/2016.

Filed Date: 12/4/15.

Accession Number: 20151204-5257.

Comments Due: 5 p.m. ET 12/28/15.

Docket Numbers: ER16-470-000.

Applicants: Midcontinent Independent System Operator, Inc.

Description: § 205(d) Rate Filing: 2015-12-04_Order 1000 (TOA) CTDS Variance Analysis Filing to be effective 2/2/2016.

Filed Date: 12/4/15.

Accession Number: 20151204-5259.

Comments Due: 5 p.m. ET 12/28/15.

Docket Numbers: ER16-471-000.

Applicants: Midcontinent Independent System Operator, Inc.

Description: Notice of Termination of the Generator Interconnection Agreement designated as Project No. G359 of Midcontinent Independent System Operator, Inc.

Filed Date: 12/4/15.

Accession Number: 20151204-5286.

Comments Due: 5 p.m. ET 12/28/15.

Take notice that the Commission received the following open access transmission tariff filings:

Docket Numbers: OA08-14-000.

Applicants: Midcontinent Independent System Operator, Inc.

Description: Compliance Filing of Midcontinent Independent System Operator, Inc.

Filed Date: 12/4/15.

Accession Number: 20151204-5292.

Comments Due: 5 p.m. ET 12/28/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 7, 2015.
Nathaniel J. Davis, Sr.,
Deputy Secretary.

[FR Doc. 2015-31211 Filed 12-10-15; 8:45 am]

BILLING CODE 6717-01-P